DEPARTMENT OF AGRICULTURE

Foreign Agricultural Service

AGENCY: Foreign Agricultural Service, USDA.

ACTION: Agricultural Policy Advisory Committee for Trade and the Agricultural Technical Advisory Committees for Trade; 2-week extension of nomination deadline

SUMMARY: The Secretary of Agriculture and the United States Trade Representative are extending the nomination deadline by 2 weeks for the Agricultural Policy Advisory Committee for Trade (APAC) and the Agricultural Technical Advisory Committees for Trade (ATACs). The extension is to ensure that every effort has been made to solicit the broadest possible representation on the APAC and the 5 ATAC Committees.

DATES: Written nominations must be received by the Foreign Agricultural Service before close of business June 29, 2001.

ADDRESSES: Send all nominating materials to Ms. Sharon McClure, Foreign Agricultural Service, USDA, Room 5065-S, STOP 1001, 1400 Independence Avenue, SW., Washington, DC 20250-1001. The information may also be submitted by fax to (202) 720-8097.

FOR FURTHER INFORMATION CONTACT: Persons interested in serving on the APAC or an ATAC, must submit: (1) Completed Form AD-755, (2) completed Form AD-1086, (3) resume, and (4) specify the committee. The information should be submitted by mail (Ms. Sharon McClure, Foreign Agricultural Service, USDA, 1400 Independence Avenue, SW., Room 5065-S, Stop 1001, Washington, DC 20250-1001, or fax (202-710-8097). These forms are also available on the Internet at the FAS homepage. For Form AD-755, go to http://www.fas.usda.gov/ad 755.pdf. For Form AD-1086, go to http://www.fas.usda.gov/admin/ad 1086. For questions or further information, contact Sharon McClure at 202-720-6829 or electronically (mcclure@fas.usda.gov).

SUPPLEMENTARY INFORMATION: The Agricultural Policy Advisory Committee for Trade (APAC) and the Agricultural Technical Advisory Committees for Trade (ATACs) are authorized by sections 135(c)(1) and (2) of the Trade Act of 1974, as amended (Pub. L. No. 93-618, 19 U.S.C. 2155). The purpose of the committees is to provide advice to the Secretary and the U.S. Trade Representative concerning agricultural trade policy and are intended to ensure that representative elements of the private sector have an opportunity to make known their views to the U.S. Government.

In 1974, Congress established a private sector advisory committee system to ensure that U.S. trade policy and negotiation objectives adequately reflect U.S. commercial and economic interests. The private sector advisory system now consists of almost 40 committees, arranged in three tiers:

• The President's Advisory Committee on Trade and Policy Negotiations (ACTPN);

• Seven advisory committees, including the APAC, and;

• Over 30 technical advisory committees, including the ATACs.

The renewal of such committees is in the public interest in connection with the duties of the U.S. Department of Agriculture (USDA) imposed by the Trade Act of 1974, as amended.

General Committee Information: All APAC and ATAC committee members are appointed by the Secretary of Agriculture and the U.S. Trade Representative (USTR), and serve at the discretion of the Secretary and the USTR. To serve and attend committee meetings, members must be U.S. citizens, and have successfully completed a confidential security clearance. Committee members serve without compensation; they are not reimbursed for their travel expense.

Committee meetings will be open to the public, unless the U.S. Trade Representative determines that the committees will be discussing issues the disclosure of which justify closing a meeting or portions of the meeting, in accordance with 5 U.S.C. 552b(c).

All committee appointments expire on May 1, 2003; but the Secretary and USTR may renew an appointment for one or more additional terms.

Each committee has a chairperson, who is elected from the membership of that committee. In addition to their individual responsibilities, all committees are required to meet at the conclusion of negotiations for each trade agreement, and to provide a report on each agreement to the President, Congress, and to the U.S. Trade Representative. [All meetings will be held in Washington, D.C.]

Agricultural Policy Advisory Committee for Trade (APAC): The APAC has approximately 50 members, and is composed of a broad spectrum of agricultural interests. It provides advice concerning:

• Negotiating objectives and bargaining positions before the United States enters into a trade agreement;

• The operation of various U.S. trade agreements; and

• Other matters arising from the administration of U.S. trade policy.

Agricultural Technical Advisory Committees for Trade (ATACs): The ATACs provide advice and information regarding trade issues which affect both domestic and foreign production in their commodities, drawing upon the technical competence and experience of its members. There are five ATACs, one for each of the following sectors:

• Grains, Feed, and Oilseeds;

• Animals and Animal Products;

• Fruits and Vegetables;

• Sweeteners and Sweetener Products; and

• Tobacco, Cotton, and Peanuts.

Each ATAC has approximately 25 members, for a total of approximately 125 members.

Nominations and Selection of Members: Nominations are open to all individuals without regard to race, color, religion, sex, national origin, age, mental or physical handicap, marital status or sexual orientation. To ensure that the recommendations of the committees take into account the needs of the diverse groups served by the Department, membership shall include, to the extent practicable, individuals with demonstrated ability to represent minorities, women, and persons with disabilities.

Members are selected primarily for their expertise and knowledge of agriculture trade as it relates to policy and commodity specific products. No person, company, producer, farm organization, trade association, or other entity has a right to representation on a committee. All members serve at the discretion of the Secretary of Agriculture and the U.S. Trade Representative. In making selections, every effort will be made to maintain balanced representation on the committees: representation from producers, farm and commodity organizations, processors, traders, consumers, as well as geographical balance.

Issued at Washington, D.C. this 15th day of June, 2001.
John Surina,
Acting Deputy Assistant Secretary for Administration.

[FR Doc. 01-15558 Filed 6-18-01; 8:45 am]

BILLING CODE 3410-10-P